DEPARTMENT OF THE INTERIOR

National Park Service

[NPS-AKRO-GAAR]

Availability of Record of Decision Selecting a Route for the Ambler Mining District Industrial Access Road Through the Kobuk National Preserve, Alaska; Terms and Conditions Accompanying That Decision, and Final Environmental and Economic Analysis of the Impacts of Proposed Routes Within the Preserve

AGENCY: National Park Service, Interior.

ACTION: Notice.

SUMMARY: As required by law, the Department of the Interior (DOI) and the Department of Transportation (DOT) have jointly agreed upon a route for the issuance of the right-of-way across the Western (Kobuk River) unit of the Gates of the Arctic National Preserve for the proposed Ambler Mining District Industrial Access Road, based on the Final Environmental and Economic Analysis.

SUPPLEMENTARY INFORMATION: The Alaska National Interest Lands Conservation Act (ANILCA) established the Gates of the Arctic National Preserve (Preserve). Section 201(4) of that Act also required that the Secretary of the Interior permit access for surface transportation from the Dalton Highway to the Ambler Mining District through the Preserve, and for the Secretaries of the Interior and Transportation to jointly agree upon the route. The Act further required the two Secretaries to prepare an Environmental and Economic Analysis (EEA) for the purpose of determining the most desirable route for the right-of-way through the Preserve, in lieu of an Environmental Impact Statement, and exempted the EEA from judicial review. The EEA and related activities were to be triggered by the filing of an application for such a right-of-way.

The Alaska Industrial Development and Export Authority (AIDEA), a public corporation of the State of Alaska, has applied for a right-of-way for an industrial access road through the Preserve. The proposed route is 26 miles within the Preserve and 211 miles in total (the Northern Alignment). The EEA also analyzed an alternative route that is 18 miles within the Preserve and 228 miles in total (the Southern Alignment).

The National Park Service (NPS), in cooperation with the U.S. Department of Transportation, Federal Highway Administration (FHWA), prepared the EEA. A draft of the document was issued for public comment on August 23, 2019, for a comment period that originally extended through October 7, 2019. Based on feedback from the public, this was extended until October 29, 2019. NPS also attended 12 public meetings sponsored by BLM, one in Fairbanks, one in Washington, DC, and 10 in rural Alaska communities possibly impacted by the road.

NPS received slightly under 3,000 comments. The NPS analyzed all pieces of correspondence received during the comment period when preparing the final EEA. The comments assisted in identifying sections of the draft EEA, including proposed terms and conditions, that required refinement and revision. It also aided in organizing, clarifying, and addressing technical information within the final EEA.

The Record of Decision (ROD), informed by the EEA, determined the Northern Alignment to be the most economically feasible and prudent alternative with less severe impacts allowing for construction, operation, maintenance, and reclamation of the private industrial access road. The selected route would impact fewer wetlands, would have less adverse impacts on fish, subsistence, wild and scenic rivers and would have greater economic feasibility.

Due to the need for the overall road to traverse land managed by the Bureau of Land Management (BLM) and the need for other federal permits, including a Clean Water Act section 404 permit from the Army Corps of Engineers (USACE), the full project is subject to NEPA, with BLM and USACE jointly undertaking that analysis. The subsistence impact analysis required by ANILCA Section 810 is found in the BLM/USACE joint ROD (JROD), as are the results of consultations required under other applicable laws. The JROD determined that the Northern Alignment was the least environmentally damaging practicable alternative and would not be contrary to the public interest. Full details are in the final DOI/DOT ROD and EEA, including required permit terms and conditions, which are available at https://parkplanning.nps.gov/Ambler.

This is a final decision.

Authority: 16 U.S.C. 410hh(4); 43 CFR 36.13(a).

George Wallace,
Assistant Secretary for Fish and Wildlife and Parks.

[FR Doc. 2020-16906 Filed 8-3-20; 8:45 am]

BILLING CODE 4312-52-P